DEPARTMENT OF ENERGY

48 CFR Parts 909 and 970

RIN 1991-AB64

Acquisition Regulation: Work for Others

AGENCY: Department of Energy (DOE).

ACTION: Final rule.

SUMMARY: The Department of Energy (DOE) is adopting as final without change an Interim Final Rule amending the Department of Energy Acquisition Regulation (DEAR) to provide policy and procedures regarding work for non-DOE entities performed by DOE contractors who manage and operate DOE-owned or DOE-leased facilities and to make an administrative change concerning debarment and suspension officials.

EFFECTIVE DATE: The interim final rule published December 15, 2004 (69 FR 75001) was effective January 14, 2005.

FOR FURTHER INFORMATION CONTACT: Andrew Geary, Office of Procurement and Assistance Management (MA-62), 202-287-1507; Andrew.Geary@hq.doe.gov

SUPPLEMENTARY INFORMATION: DOE is adopting as final the Interim Final Rule published on December 15, 2004, at 69 FR 75001 amending the DEAR at Part 909 to state separate debarring and suspending officials for the National Nuclear Security Administration (NNSA) and DOE and adding policy and procedures to Part 970 including a standard contract clause for the performance of work for others by DOE management and operating contractors.

Background

DOE, including NNSA, owns or sponsors major scientific research and development, and manufacturing facilities throughout the United States that are managed and operated by contractors. DOE permits these contractors to perform non-DOE work for other Federal agencies and non-Federal entities on a fully reimbursable basis when such work is authorized by law and the work requires DOE's unique technologies and capabilities.

Performance of this work is conducted under DOE's Work for Others Program. The Work for Others Program makes available for use special or unique services or facilities that are otherwise unavailable in the private sector. The Work for Others Program requires that funding for Work for Others projects be provided by a non-DOE sponsor. Performance of this work has allowed DOE and its management and operating contractors to assist other Federal agencies in accomplishing their missions and has provided assistance to non-Federal entities to solve complex and challenging technological issues.

The purpose of this rule is to establish a uniform contract clause that will provide authority to DOE's management and operating contractors to perform fully reimbursable work under the terms and conditions set forth in their contracts.

This rule amends Part 970 of the DEAR that governs DOE contracts with entities that manage and operate DOE-owned or -leased facilities. The rule applies to contracts when the contractor performs fully reimbursable work for other Federal agencies and non-Federal entities and does not relate to the expenditure of DOE's appropriated funds.

DOE is also making a technical amendment to 48 CFR part 909 to identify an NNSA official as the debarment and suspension official for NNSA contracts.

DOE invited comments from the public, which were to be submitted on or before January 14, 2005. No comments were received. DOE has determined that no changes are needed to the Interim Final Rule and adopts the DEAR amendments as final without change.

Issuance of this Final Rule has been approved by the Office of the Secretary of Energy.

List of Subjects in 48 CFR Parts 904 and 970

Government procurement.

Issued in Washington, DC, on November 17, 2005.
Richard H. Hopf,
Director, Office of Procurement and Assistance Management, Office of Management, Department of Energy.
Robert C. Braden, Jr.,
Director, Office of Acquisition and Supply Management, National Nuclear Security Administration.

Accordingly, the interim final rule amending 48 CFR parts 904 and 970 which was published at 69 FR 75001 on December 15, 2004, is adopted as a final rule without change.

[FR Doc. 05-23286 Filed 11-23-05; 8:45 am]

BILLING CODE 6450-01-P